DEPARTMENT OF LABOR

Employment and Training Administration

[TA-W-41,290]

GE Transportation Services, Global Services, Formerly Harmony Industries, Grain Valley, Missouri; Notice of Termination of Investigation

Pursuant to section 221 of the Trade Act of 1974, an investigation was initiated on February 11, 2002, in response to a petition filed by workers on behalf of all workers at GE Transportation Systems, Global Signaling, formerly Harmony Industries, Grain Valley, Missouri.

The petition group of workers is under an existing investigation for which a determination has not being issued (TA-W-40,621). Consequently, further investigation in this case would serve no purpose, and the investigation has been terminated.

Signed in Washington, DC this 13th day of May, 2002.
Linda G. Poole,
Certifying Officer, Division of Trade Adjustment Assistance.

[FR Doc. 02-15447 Filed 6-18-02; 8:45 am]

BILLING CODE 4510-30-P